DEPARTMENT OF EDUCATION

Closed Meeting of the National Advisory Council on Indian Education

AGENCY: U.S. Department of Education, National Advisory Council on Indian Education (NACIE).

ACTION: Notice of Closed Teleconference Meeting.

SUMMARY: This notice sets forth the schedule and proposed agenda of an upcoming teleconference meeting of the National Advisory Council on Indian Education (the Council) and is intended to notify the general public of the meeting. This notice also describes the functions of the Council. Notice of the Council's meetings is required under section 10(a)(2) of the Federal Advisory Committee Act and by the Council's charter.

Agenda: The purpose of the meeting will be for the Council to conduct a review of the applications for the vacant position of Director of the Office of Indian Education and to make their recommendation to the Department. This notice is appearing in the Federal Register less than 15 days before the date of the meeting due to scheduling difficulties within the agency and with the Council.

Date and Time: Nov. 15, 2007; 1 p.m. to 3 p.m. EST.

Location: The Department of Education will provide a 1-800-call in number for all NACIE members.

FOR FURTHER INFORMATION CONTACT: Lana Shaughnessy, Group Leader, Office of Indian Education, U.S. Department of Education, 400 Maryland Avenue, SW., Washington, DC 20202. Telephone: 202-205-2528. Fax: 202-260-7779.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the ESEA. The Council submitted to the Congress June 30 a report on the activities of the Council that included recommendations the Council considers appropriate for the improvement of Federal education programs that include Indian children or adults as participants or that may benefit Indian children or adults, and recommendations concerning the funding of any such program.

Records are kept of all Council proceedings and are available for public inspection at the Office of Indian Education, United States Department of Education, Room 5C140, 400 Maryland Avenue, SW., Washington, DC 20202.

Kerri L. Briggs,
Assistant Secretary for Elementary and Secondary Education.

[FR Doc. 07-5591 Filed 11-7-07; 8:45 am]

BILLING CODE 4000-01-M